OFFICE OF THE UNITED STATES TRADE REPRESENTATIVE

Notice Regarding Periodic Revision of Section 301 Action: Enforcement of U.S. WTO Rights in Large Civil Aircraft Dispute

AGENCY: Office of the United States Trade Representative (USTR).

ACTION: Notice.

SUMMARY: The U.S. Trade Representative together with the affected United States industry have agreed that it is unnecessary at this time to revise the action in the Section 301 investigation involving the enforcement of U.S. rights in the World Trade Organization (WTO) dispute involving Large Civil Aircraft subsidies provided by certain current or former member States of the European Union. The U.S. Trade Representative will continue to consider the action taken in the investigation.

DATES: This exception to periodic revisions is applicable as of February 8, 2021.

FOR FURTHER INFORMATION CONTACT: For questions about the investigation or this notice, contact Associate General Counsel Megan Grimball, at (202) 395-5725, or Director for Europe Michael Rogers, at (202) 395-3320.

SUPPLEMENTARY INFORMATION:

A. Proceedings in the Investigation

For background on the proceedings in this investigation, please see the prior notices issued in the investigation, including: Notice of initiation (84 FR 15028 (April 12, 2019)); notice of determination and action (84 FR 54245 (October 9, 2019)); and notices of revision of action (85 FR 10204 (February 21, 2020), 85 FR 50866 (August 18, 2020), and 86 FR 674 (January 6, 2021)).

B. Periodic Revisions and Exceptions Thereto

Section 306(b)(2)(B)-(F) of the Trade Act of 1974, as amended, provides for periodic revisions of the list of goods subject to additional duties imposed in response to the failure of a U.S. trading partner to implement a WTO Dispute Settlement Body (DSB) recommendation. The statute includes exceptions to the periodic revisions. As relevant here, section 306(b)(2)(B)(ii)(II) provides that no revision is required if the U.S. Trade Representative and the U.S. industry affected by the non-compliance with the DSB recommendation agree that a revision of the list is unnecessary.

The most recent revision to the list of goods subject to additional duties was effective on January 12, 2021. See 86 FR 674 (January 6, 2021). In light of the recent revision, the U.S. Trade Representative has agreed with the affected U.S. industry that it is unnecessary at this time to revise the action. The U.S. Trade Representative will continue to consider the action taken in this investigation.

William Busis,
Deputy Assistant USTR for Monitoring and Enforcement and Chair, Section 301 Committee, Office of the United States Trade Representative.

[FR Doc. 2021-02869 Filed 2-11-21; 8:45 am]

BILLING CODE 3290-F0-P